DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on February 1, 2022, through February 28, 2022. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Michelle Davis on behalf of A.D., Phoenix, Arizona, Court of Federal Claims No: 22-0098V

2. Barbara Sciortino, Las Vegas, Nevada, Court of Federal Claims No: 22-0099V

3. Ruby Sharma Dhital, West Hartford, Connecticut, Court of Federal Claims No: 22-0101V

4. Chelsea Smith on behalf of C.S., Danville, Kentucky, Court of Federal Claims No: 22-0103V

5. Brechen Santeramo, Fort Collins, Colorado, Court of Federal Claims No: 22-0104V

6. Shawn Geiger, Hackettstown, New Jersey, Court of Federal Claims No: 22-0106V

7. Roberta Johnson, Winfield, Illinois, Court of Federal Claims No: 22-0107V

8. Samuel Martin, Oklahoma City, Oklahoma, Court of Federal Claims No: 22-0109V

9. Marijane Angels, Southington, Connecticut, Court of Federal Claims No: 22-0112V

10. Suzanne Kallin, Los Angeles, California, Court of Federal Claims No: 22-0113V

11. Maria Sims, Philadelphia, Pennsylvania, Court of Federal Claims No: 22-0115V

12. Karen Miller, Seattle, Washington, Court of Federal Claims No: 22-0116V

13. Jerry Brown, Greenville, Texas, Court of Federal Claims No: 22-0118V

14. Demetrius Lockett, Detroit, Michigan, Court of Federal Claims No: 22-0119V

15. Pamela Allen, Fairburn, Georgia, Court of Federal Claims No: 22-0122V

16. Ann Marie Indorf on behalf of K.I., Phoenix, Arizona, Court of Federal Claims No: 22-0123V

17. Dana Mowery, Delaware, Ohio, Court of Federal Claims No: 22-0124V

18. Ronald L. Jopes, Elizabethtown, Kentucky, Court of Federal Claims No: 22-0125V

19. Anne Rosenthal, Palo Alto, California, Court of Federal Claims No: 22-0126V

20. Joan Steede, Rockford, Illinois, Court of Federal Claims No: 22-0128V

21. Andrew Short, St. Paul, Minnesota, Court of Federal Claims No: 22-0129V

22. Herbert St. Amant, Cypress, California, Court of Federal Claims No: 22-0130V

23. Norman Michaud, Auburn, Maine, Court of Federal Claims No: 22-0134V

24. Jordanna Ross, La Porte, Indiana, Court of Federal Claims No: 22-0136V

25. Gary Krugel, Antigo, Wisconsin, Court of Federal Claims No: 22-0139V

26. CarolAnn Sinclair, Anacortes, Washington, Court of Federal Claims No: 22-0140V

27. Sheetal Paliwal, Libertyville, Illinois, Court of Federal Claims No: 22-0141V

28. Jonessa Casarez on behalf of A.C., Phoenix, Arizona, Court of Federal Claims No: 22-0142V

29. Hunter Miller, Phoenix, Arizona, Court of Federal Claims No: 22-0143V

30. Kelly Quinn, Tempe, Arizona, Court of Federal Claims No: 22-0144V

31. Mary Walsh, Valatie, New York, Court of Federal Claims No: 22-0148V

32. Arnold Saitow, Boston, Massachusetts, Court of Federal Claims No: 22-0150V

33. Zachary Hemenway, Staples, Minnesota, Court of Federal Claims No: 22-0153V

34. John Owen, West Des Moines, Iowa, Court of Federal Claims No: 22-0155V

35. Jordan Aguilar, Phoenix, Arizona, Court of Federal Claims No: 22-0156V

36. Jean Deoleo and Dayre Deoleo on behalf of I.D., Miami, Florida, Court of Federal Claims No: 22-0157V

37. Nanoya Burgan, Lawrenceville, Georgia, Court of Federal Claims No: 22-0158V

38. Mary White on behalf of M.A., Phoenix, Arizona, Court of Federal Claims No: 22-0159V

39. Muriel J. Duval, Las Vegas, Nevada, Court of Federal Claims No: 22-0160V

40. Florence Barrett, Tacoma, Washington, Court of Federal Claims No: 22-0161V

41. Ljubitza Ghiardi, Phoenix, Arizona, Court of Federal Claims No: 22-0162V

42. Clara Nickels, Phoenix, Arizona, Court of Federal Claims No: 22-0167V

43. Denise Warburton on behalf of C.C., Phoenix, Arizona, Court of Federal Claims No: 22-0169V

44. Sandra Fox, Pittsburgh, Pennsylvania, Court of Federal Claims No: 22-0176V

45. Alexis Dimick, Phoenix, Arizona, Court of Federal Claims No: 22-0188V

46. Jacki Della Rosa Carron, Upper Arlington, Ohio, Court of Federal Claims No: 22-0189V

47. Matthew J. Miller, Fairbury, Nebraska, Court of Federal Claims No: 22-0190V

48. Tiara Pore, New Hyde Park, New York, Court of Federal Claims No: 22-0191V

49. Cheryl A. Maxheimer, Fenton, Michigan, Court of Federal Claims No: 22-0192V

50. Kari Lynn Fisher, Port Angeles, Washington, Court of Federal Claims No: 22-0195V

51. Mira Goff on behalf of the Estate of Richard Goff, Deceased, Kenton, Ohio, Court of Federal Claims No: 22-0199V

52. Gregory Mills, Texas City, Texas, Court of Federal Claims No: 22-0203V

53. Teresa Vickers on behalf of the Estate of Wanda Sovine, Deceased, Hurricane, West Virginia, Court of Federal Claims No: 22-0204V

54. Larry Toothman, East Liverpool, Ohio, Court of Federal Claims No: 22-0207V

55. Danette Weems, St. Louis, Missouri, Court of Federal Claims No: 22-0208V

56. Amelia Goff, Eufaula, Alabama, Court of Federal Claims No: 22-0209V

57. Sabine Templeton on behalf of the Estate of Ramsay Templeton, Deceased, Fernandina Beach, Florida, Court of Federal Claims No: 22-0210V

58. Mark Cunningham, Charlotte, North Carolina, Court of Federal Claims No: 22-0211V

59. Bret Wood, Concord, North Carolina, Court of Federal Claims No: 22-0212V

60. Fahtima Isaac, Phoenix, Arizona, Court of Federal Claims No: 22-0213V

61. Shannon McDonald, Lumberton, New Jersey, Court of Federal Claims No: 22-0215V

62. Anita Enns, Katy, Texas, Court of Federal Claims No: 22-0216V

63. Joyce Glenn on behalf of the Estate of Anthony Glenn, Deceased, Fontana, California, Court of Federal Claims No: 22-0217V

64. April Keen, Greenville, South Carolina, Court of Federal Claims No: 22-0218V

65. Carey Cribbs, Ferndale, Michigan, Court of Federal Claims No: 22-0219V

66. Sara Davis Buechner, Philadelphia, Pennsylvania, Court of Federal Claims No: 22-0220V

67. Rafael Mauries, Cedar Park, Texas, Court of Federal Claims No: 22-0224V

[FR Doc. 2022-06249 Filed 3-23-22; 8:45 am]

BILLING CODE 4165-15-P